DEPARTMENT OF COMMERCE

National Oceanic and Atmospheric Administration

Agency Information Collection Activities; Submission to the Office of Management and Budget (OMB) for Review and Approval; Comment Request; Billfish Tagging Report

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 24, 2020 during a 60-day comment period. This notice allows for an additional 30 days for public comments.

Agency: National Oceanic & Atmospheric Administration (NOAA), Commerce.

Title: Billfish Tagging Report.

OMB Control Number: 0648-0009.

Form Number(s): NOAA 88-162.

Type of Request: Regular submission [extension of a current information collection].

Number of Respondents: 1,000.

Average Hours per Response: 5 minutes.

Total Annual Burden Hours: 83.

Needs and Uses: The National Oceanic and Atmospheric Administration's Southwest Fisheries Science Center (SWFSC) operates a conventional mark-recapture billfish tagging program. The SWFSC provides tagging supplies to individuals electing to tag and release the billfish they catch (the program is advertised by a newsletter and by word of mouth). Each Billfish Tagging Report Card is issued with an individual billfish tag and is imprinted with the number matching the accompanying tag. The Billfish Tagging Report Card is the primary mechanism by which these cooperating anglers and commercial fishers return the tag and release information concerning the billfish they have tagged. Individuals cooperating in the program do so on a strictly voluntary basis.

Tagging supplies are provided to volunteer anglers. When anglers catch and release a tagged fish, they submit a brief report on the fish and the location of the tagging. The program is conducted throughout the year to determine billfish habitat, mortality rates, migration patterns, feeding habits, and growth rates. Fishery biologists investigating the health of billfish resources throughout the Pacific utilize data from this program. Results aid in ongoing research concerning billfish resources and are published annually in the Billfish newsletter.

Affected Public: Individuals or households.

Frequency: On occasion.

Respondent's Obligation: Voluntary.

Legal Authority: This program is authorized under 16 U.S.C. 760(e), Study of migratory game fish; waters; research; purpose.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0009.

Sheleen Dumas,
Department PRA Clearance Officer, Office of the Chief Information Officer, Commerce Department.

[FR Doc. 2020-23206 Filed 10-19-20; 8:45 am]

BILLING CODE 3510-22-P